COMMITTEE FOR PURCHASE FROM PEOPLE WHO ARE BLIND OR SEVERELY DISABLED

41 CFR Ch. 51

Semiannual Regulatory Agenda

AGENCY: Committee for Purchase From People Who Are Blind or Severely Disabled.

ACTION: Semiannual regulatory agenda.

SUMMARY: This document sets forth the regulatory agenda of the Committee for Purchase From People Who Are Blind or Severely Disabled. This agenda is issued in accordance with Executive Order 12866 and the Regulatory Flexibility Act. The agenda lists regulations that are currently under development or review or that the Committee expects to have under development or review during the next 12 months. The purpose for publishing this agenda is to advise the public of the Committee's current and future regulatory actions.

FOR FURTHER INFORMATION CONTACT: For further information on the agenda in general, contact Shelly Hammond, Director, Contracting and Policy, Committee for Purchase From People Who Are Blind or Severely Disabled, 1401 S Clark Street, Suite 715, Arlington, VA 22202; (703) 603-2127.

SUPPLEMENTARY INFORMATION: Under Executive Order 12866 (58 FR 51735, October 4, 1993), each agency is required to prepare an agenda of all regulations under development or review. The Regulatory Flexibility Act (5 U.S.C. 601 to 612) has a similar agenda requirement (5 U.S.C. 602). Under the law, the agenda must list any regulation that is likely to have a significant economic impact on a substantial number of small entities.

The Office of Management and Budget has issued guidelines prescribing the form and content of the regulatory agenda. Under those guidelines, the agenda must list all regulatory activities being conducted or reviewed in the next 12 months and provide certain specified information on each regulation. All of the items on this agenda are current or projected rulemakings.

Dated: March 6, 2020.
Shelly Hammond,
Director of Contracting & Policy.

Committee for Purchase From People Who Are Blind or Severely Disabled—Prerule Stage
Sequence No. | Title | Regulation Identifier No.
184 | AbilityOne Program, Department of Defense Section 898, Contracting Oversight, Accountability and Integrity Panel (Rulemaking Resulting From a Section 610 Review) | 3037-AA14

COMMITTEE FOR PURCHASE FROM PEOPLE WHO ARE BLIND OR SEVERELY DISABLED (CPBSD)

Prerule Stage

184. • AbilityOne Program, Department of Defense Section 898, Contracting Oversight, Accountability and Integrity Panel (Rulemaking Resulting From a Section 610 Review)

E.O. 13771 Designation: Other.

Legal Authority: 41 U.S.C. 85

Abstract: The Committee for Purchase from People Who Are Blind or Severely Disabled (Committee) is proposing to amend its regulation to incorporate specific recommendations from the Department of Defense (DoD) section 898 panel review mandated by the National Defense Authorization Act for Fiscal Year 2017 (Pub. L. 114-328). The mission of the Panel is to assess the overall effectiveness and internal controls of the AbilityOne Program related to DoD contracts and provide recommendations for changes in business practices.

Timetable:

Action | Date | FR Cite
ANPRM | 06/00/20 |

Regulatory Flexibility Analysis Required: No.

Agency Contact: Shelly Hammond, Director, Policy and Programs, Committee for Purchase From People Who Are Blind or Severely Disabled, 1401 S Clark Street, Suite 715, Arlington, VA 22202, Phone: 703 603-2127, Email: shammond@abilityone.gov.

RIN: 3037-AA14

[FR Doc. 2020-17080 Filed 8-25-20; 8:45 am]

BILLING CODE 6350-01-P